DEPARTMENT OF THE TREASURY

Alcohol and Tobacco Tax and Trade Bureau

27 CFR Part 9

[Notice No. 37]

RIN 1513-AA95

Proposed Establishment of the Dos Rios Viticultural Area (2004R-0173P)

AGENCY: Alcohol and Tobacco Tax and Trade Bureau, Treasury.

ACTION: Notice of proposed rulemaking.

SUMMARY: The Alcohol and Tobacco Tax and Trade Bureau proposes to establish the “Dos Rios” viticultural area in Mendocino County, California. This proposed 15,500-acre viticultural area is about 150 miles north of San Francisco, California. We designate viticultural areas to allow vintners to better describe the origin of their wines and to allow consumers to better identify wines they may purchase. We invite comments on this proposed addition to our regulations.

DATES: We must receive written comments on or before May 31, 2005.

ADDRESSES: You may send comments to any of the following addresses:

• Chief, Regulations and Procedures Division, Alcohol and Tobacco Tax and Trade Bureau, Attn: Notice No. 37, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this proposal by appointment at the TTB Library, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N. A. Sutton, AVA Program Manager, Regulations and Procedures Division, Alcohol and Tobacco Tax and Trade Bureau, 925 Lakeville Street, No. 158, Petaluma, CA 94952; telephone 415-271-1254.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, elevation, physical features, and soils, that distinguish the proposed viticultural area from surrounding areas;

• A description of the specific boundary of the proposed viticultural area, based on features found on United States Geological Survey (USGS) maps; and

• A copy of the appropriate USGS map(s) with the proposed viticultural area's boundary prominently marked.

Dos Rios Petition

TTB received a petition from Ralph Jens Carter of Sonoma, California, proposing a new viticultural area to be called “Dos Rios” in northern Mendocino County, California. Located at the confluence of the Eel River and the Middle Fork of the Eel River, the proposed 15,500-acre Dos Rios viticultural area is about 40 miles north of Ukiah, 25 miles east of the Pacific Ocean, and about 5 miles north of the established North Coast viticultural area's northern boundary (see 27 CFR 9.30). The proposed area encompasses portions of the canyons containing the two rivers. According to the petition, the area's canyon-created wind patterns, river-reflected sunlight, soils, and transitional climate distinguish it from surrounding grape-growing regions. The petitioner states that, currently, six acres of commercial vineyards are planted within the proposed area's boundaries, with the potential for additional plantings.

Name Evidence

“Dos Rios” is Spanish for “two rivers,” according to the Harper Collins Spanish College Dictionary, Fourth Edition, published in 2002. The United States Geological Survey (USGS) Dos Rios Quadrangle map shows the village of Dos Rios at the confluence of the Middle Fork of the Eel River and the main channel of the Eel River. The November 2002 California State Automobile Association map and the 2003 California Compass Map show Dos Rios village along State Highway 162 east of Laytonville, California.

The local GTE telephone directory lists Dos Rios and includes its 95429 zip code. The local Vin DeTevis winery letterhead lists its location on Covelo Road in Dos Rios. The petition also included a copy of a 1982 photograph from a book entitled “The Northwestern Pacific Railroad and Its Successors,” by Wesley Fox (Fox Publications, Arvada, Colorado), which shows, according to its caption, a southbound freight train “rolling along the rocky edges of the Eel River, south of Dos Rios.”

Boundary Evidence

The proposed Dos Rios viticultural area encompasses the confluence of the Eel and the Middle Fork of the Eel Rivers, portions of the Eel River canyon to the north and south of the confluence, and a portion of the Middle Fork's canyon east of the confluence. The proposed area also includes portions of the side canyons of several seasonal tributaries. The proposed viticultural area covers about 15,500 acres, and its boundary outlines an irregular shape about 12 miles long east to west and 4 miles wide north to south.

As shown on the USGS maps provided with the petition, the petitioner uses the 2,000-foot contour line to define the outer limits of the proposed viticultural area. Section lines shown on the USGS maps of the proposed area connect the 2,000 foot contour lines across the two rivers as the contour lines pass out of the Dos Rios area. The petition and letters from local residents state that the 2,000-foot contour line marks the upper limit of the microclimate created by the proposed area's canyon geography. Above the 2,000-foot contour line, the climate becomes colder and less conducive to viticulture, according to the petition, which cites the “Sunset Western Garden Book” (7th edition, 2001).

As shown on the provided USGS maps, the northern boundary of the proposed Dos Rios viticultural area coincides with the Round Valley Indian Reservation's southern boundary where it crosses the Eel River, about 6 miles north of the village of Dos Rios. According to the petition, which cites a copy of the 1971 Hubbard Scientific 3-dimensional map of the Ukiah, California, region, this portion of the proposed area includes windy and gentler, less eroded slopes.

The eastern region of the proposed viticultural area includes mildly steep slopes close to the Middle Fork of the Eel River, as noted on the Hubbard Scientific Ukiah map and the USGS Dos Rios maps. This portion of the proposed area has warmer temperatures due to sunlight reflected from the Middle Fork of the Eel River onto the surrounding steep slopes and canyon walls, according to the petition. The eastern boundary line is about 4 miles east of the village of Dos Rios. Beyond the proposed eastern boundary the higher, colder elevations of the Mendocino National Forest dominate the landscape.

The proposed area's southern boundary line is about 3 miles south of the village of Dos Rios. The petition describes this portion of the proposed area as having significant winds and light reflection from the rivers, which modifies its climate.

The western boundary of the proposed Dos Rios viticultural area coincides with the steep “Windy Point” geographical feature shown on the USGS Laytonville map. The proposed area's western boundary is about a mile west of the village of Dos Rios. The narrow canyon walls found here constricts the marine air flowing inland and creates a windy environment, the petition explains.

Geography

The significant physical features of the proposed Dos Rios viticultural area include the Eel River and the Middle Fork of the Eel River and their surrounding canyons, which join within the proposed area. The petition describes the canyon surrounding the confluence of the two rivers as a “land trough,” a half-mile deep and three miles wide. This land trough is shown on the provided USGS area maps and in multiple dimensions on the Hubbard Scientific Ukiah region topographic map.

As land troughs, the Eel and Middle Fork river canyons are the only significant gaps in the Coast Range in this region of Mendocino County, according to the petition, which cites the Hubbard Scientific Ukiah region topographic map. The petition states that these gaps allow the Pacific Ocean's marine air to blow inland, or east, through the canyons and into the proposed Dos Rios viticultural area.

As the petition notes, the names of several prominent geographic features reflect the strength of the wind blowing through the canyons. The USGS maps for the proposed area show two geographic features named “Windy Point” within the proposed viticultural area boundaries and another named “Windy Ridge” close to the proposed area's eastern boundary. On the USGS Laytonville map, Windy Point is near the 1,800-foot elevation in the southwest corner of section 36, T22, R14W. On the USGS Dos Rios map, Windy Point is near the 1,400-foot elevation line between State Highway 162 and the Middle Fork of the Eel River, T21N, R13W. “Windy Ridge,” with elevations between 2,600 feet and 3,200 feet, is immediately outside of the proposed area's eastern boundary on the USGS Covelo West map, section 18, T22N, R13W.

The canyon walls and hillsides surrounding the Eel River and the Middle Fork of the Eel River incline from 30 to 75 percent, according to the United States Department of Agriculture (USDA) Soil Survey of Mendocino County, Eastern Part and Trinity Southwest Part, California, January 1991, pages 23-126. In addition to the climate-moderating marine winds, sunlight reflects off the rivers onto the steep sides of the canyons, helping to warm the climate of the canyons below the 2,000-foot contour line, according to the petition.

Climate

The marine winds blowing through the canyons within the proposed Dos Rios viticultural area, direct and reflected solar radiation, and temperature are the factors that distinguish the proposed area from the surrounding regions of Mendocino County, the petition states. The “Sunset Western Garden Book” (7th edition, 2001), which divides much of the western United States into growing zones, includes the proposed Dos Rios viticultural area in California's Zone 14, Northern California's Inland Areas with Some Ocean Influence, a transitional climate area. The Sunset book depicts this zone as a narrow geographic region surrounded by three cooler zones. The close proximity of the four climate zones to the proposed Dos Rios viticultural area also helps create a unique transitional microclimate within the proposed area, according to the petition.

Wind: As noted above, the Eel River and Middle Fork of the Eel River canyons create a gap in the Coast Range, which lies between the moderating Pacific Ocean climate to the west and the more continental climate found at the higher elevations and in the interior valleys to the east. According to the petition, which cites the Sunset Western Garden Book and the Hubbard Scientific Ukiah region topographic map, these canyons act as wind funnels that bring moderating Pacific marine air into the Dos Rios region, affecting the proposed area's climate. The Sunset book explains the gaps in the Coast Range create funnels for the marine air to blow further inland than it would without these low-elevation entrances. Geographic slopes also affect airflow, according to Sunset's description of how the local terrain can affect wind flow and solar heat. Warm air rises and cold air sinks, which, the petition notes, creates vertical wind movements on the 800-foot to 2,000-foot sloping elevations found within the proposed viticultural area.

As noted above, the presence of strong winds in the proposed Dos Rios viticultural area is reflected in the “windy” names given to several geographic features within or near its boundary. Local residents also confirm the existence of these winds within the proposed area. During the summer months the proposed area has brisk afternoon breezes that intensify at sunset, according to correspondence from Steve DeTevis, a local resident and vineyard owner living close to Windy Point along the Middle Fork of the Eel River. Mr. DeTevis explains that the winds blow north to south, from the higher hillside to the lower elevations along the river. He added that at sunset the breezes intensify, and after dark the winds subside and temperatures cool. Also, he notes that during the winter the winds create a downdraft from the hilltops to the canyon floor and help to lessen the effects of freezing temperatures and frost in the vineyards.

Greta and Chris Harper, residents of Dos Rios, explain in their June 23, 2004 correspondence that, “In Dos Rios we are also greatly influenced by the * * * winds that regularly move through the canyons cut by the Eel River and its numerous tributaries.” They note the winds are strongest in the spring and summer, especially in the afternoon and early evening hours. The Harpers explain that the winds help disperse the morning coastal fog that reaches over the surrounding mountain ranges, giving the Dos Rios region sunny mornings that contrast with the foggier mornings found in the surrounding Covelo and Willits regions.

Greg Kanne, a resident of Dos Rios since 1985, states in his June 3, 2004 correspondence that, “Yes, it does get quite windy here (Dos Rios).” Mr. Kanne explains that a river canyon is a wind tunnel and the Dos Rios area has two tunnels that collide and push strong breezes up the canyon walls. He also confirms the presence of the afternoon breezes. Mel Black, a Dos Rios residence since 1987, explains in a July 8, 2004 letter that his 1,350-foot elevation ranch extends from Poonkinny Creek westward over a ridge and down the hillside, crossing the Eel River, into Dos Rios. Mr. Black states that the brisk afternoon and evening breezes are a daily occurrence combining with the sun exposures and soils to create an ideal grape-growing region.

Solar Radiation

Reflective sunlight off the water in the two rivers provides additional warming to the hillside vineyards, according to the petition, which cites the 2002 “Great Grape Varieties” publication (page 57). Greta and Chris Harper note in their June 2004 letter that, “In Dos Rios we are also greatly influenced by the river itself as it reflects light * * *.” The intensity of the reflected sunlight dissipates above 2,000 feet in elevation, according to the petition, which coincides with the proposed area's boundary line.

Temperature

Temperatures annually average 52 to 58 degrees, with warm, dry summers and cool, wet winters, according to the petition, citing the 1991 USDA Soil Survey of Mendocino Trinity Counties. The Sunset Western Garden Book, as cited in the petition, describes the marine breezes blowing through the proposed area's canyons as a moderating influence making the Dos Rios region cooler in the summer and warmer in the winter than regions to the east with a more continental climate. The frost-free growing season varies from 125 days to 250 days annually.

According to the Sunset book, three cooler Sunset climate zones surround the proposed area and its transitional Zone 14 climate. These three climates include Zone 1, Coldest Winters in the West, Zone 2, Second Coldest Western Climate, and Zone 7, California's Digger Pine Belt. Zones 1 and 2 are the snowiest and coldest parts of the West. Zone 7, found at lower mountain elevations, has hot summers and mild, but pronounced, winters. The higher elevations, according to the Sunset climate zone map, have generally colder climates and a shorter growing season than the lower elevations.

Rainfall

The proposed Dos Rios viticultural area averages 30 to 60 inches of rainfall each year, according to the 1991 USDA Soil Survey of Mendocino and Trinity Counties. Most of this rainfall occurs between October and April each year. The proposed area gets occasional light snow, as the petitioner documents with photographs. The surrounding higher elevations receive more snow, according to the Sunset Western Garden Book.

Soils

Soils of the proposed Dos Rios viticultural area are well-drained to excessively well-drained loams, sandy loams, and gravelly loams that are deep to very deep, according to the 1991 USDA Soil Survey for Mendocino and Trinity Counties, pages 23-126. These soils are categorized as poor, with coarse texture and limited water retention. They are weathered from sandstone, siltstone, schist, and greywacke, which are rich in mineral nutrients. In comparison, the petition notes that soils within the proposed Dos Rios viticultural area differ from other nearby grape-growing regions such as the Potter Valley viticultural area (27 CFR 9.82), which the 1991 USDA Soil Survey described as having Cole series soils that are poorly drained, nearly level clay loams.

Boundary Description

See the narrative boundary description of the petitioned-for viticultural area in the proposed regulatory text published at the end of this notice.

Maps

The petitioner(s) provided the required maps, and we list them below in the proposed regulatory text.

Impact on Current Wine Labels

Part 4 of the TTB regulations prohibits any label reference on a wine that indicates or implies an origin other than the wine's true place of origin. If we establish this proposed viticultural area, its name, “Dos Rios,” will be recognized as a name of viticultural significance. Consequently, wine bottlers using “Dos Rios” in a brand name, including a trademark, or in another label reference as to the origin of the wine, will have to ensure that the product is eligible to use the viticultural area's name as an appellation of origin. The proposed part 9 regulatory text set forth in this document specifies the “Dos Rios” name as a term of viticultural significance for purposes of part 4 of the TTB regulations.

For a wine to be eligible to use as an appellation of origin the name of a viticultural area specified in part 9 of the TTB regulations, at least 85 percent of the grapes used to make the wine must have been grown within the area represented by that name, and the wine must meet the other conditions listed in 27 CFR 4.25(e)(3). If the wine is not eligible to use the viticultural area name as an appellation of origin and that name appears in the brand name, then the label is not in compliance and the bottler must change the brand name and obtain approval of a new label. Similarly, if the viticultural area name appears in another reference on the label in a misleading manner, the bottler would have to obtain approval of a new label. Accordingly, if a new label or a previously approved label uses the name “Dos Rios” for a wine that does not meet the 85 percent standard, the new label will not be approved, and the previously approved label will be subject to revocation, upon the effective date of the approval of the Dos Rios viticultural area.

Different rules apply if a wine has a brand name containing a viticultural area name that was used as a brand name on a label approved before July 7, 1986. See 27 CFR 4.39(i)(2) for details.

Public Participation

Comments Invited

We invite comments from interested members of the public on whether we should establish the proposed viticultural area. We are also interested in receiving comments on the sufficiency and accuracy of the name, boundary, climatic, and other required information submitted in support of the petition. Please provide any available specific information in support of your comments.

Because of the potential impact of the establishment of the proposed Dos Rios viticultural area on brand labels that include the words “Dos Rios” as discussed above under Impact on Current Wine Labels, we are particularly interested in comments regarding whether there will be a conflict between the proposed area name and currently used brand names. If a commenter believes that a conflict will arise, the comment should describe the nature of that conflict, including any negative economic impact that approval of the proposed viticultural area will have on an existing viticultural enterprise. We are also interested in receiving suggestions for ways to avoid any conflicts, for example by adopting a modified or different name for the viticultural area.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-Rulemaking Portal: To submit comments to us via the Federal e-rulemaking portal, visit http://www.regulations.gov and follow the instructions for submitting comments.

You may also write to the Administrator before the comment closing date to ask for a public hearing. The Administrator reserves the right to determine, in light of all circumstances, whether to hold a public hearing.

Confidentiality

All submitted material is part of the public record and subject to disclosure. Do not enclose any material in your comments that you consider confidential or inappropriate for public disclosure.

Public Disclosure

You may view copies of this notice, the petition, the appropriate maps, and any comments we receive by appointment at the TTB Library at 1310 G Street, NW., Washington, DC 20220. You may also obtain copies at 20 cents per 8.5 x 11-inch page. Contact our librarian at the above address or telephone 202-927-2400 to schedule an appointment or to request copies of comments.

For your convenience, we will post this notice and any comments we receive on this proposal on the TTB Web site. We may omit voluminous attachments or material that we consider unsuitable for posting. In all cases, the full comment will be available in the TTB Library. To access the online copy of this notice, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N. A. Sutton of the Regulations and Procedures Division drafted this notice.

List of Subjects in 27 CFR Part 9

Wine.

Proposed Regulatory Amendment

For the reasons discussed in the preamble, we propose to amend title 27, chapter 1, part 9, Code of Federal Regulations, as follows:

PART 9—AMERICAN VITICULTURAL AREAS

1. The authority citation for part 9 continues to read as follows:

Authority: 27 U.S.C. 205.

2. Amend subpart C by adding § 9.__ to read as follows:

Subpart C—Approved American Viticultural Areas

§ 9.__ Dos Rios.

(a) Name. The name of the viticultural area described in this section is “Dos Rios”. For purposes of part 4 of this chapter, “Dos Rios” is a term of viticultural significance.

(b) Approved Maps. The appropriate maps for determining the boundaries of the Dos Rios viticultural area are four United States Geological Survey (USGS) 1:24,000 scale topographic maps. They are titled:

(1) Dos Rios, California—Mendocino County, 1967 edition, revised 1994;

(2) Laytonville, California—Mendocino County, 1967 edition, revised 1994;

(3) Iron Peak, California—Mendocino County, 1967 edition, revised 1994; and

(4) Covelo West, California—Mendocino County, 1967 edition, photoinspected 1973.

(c) Boundary. The Dos Rios viticultural area is located in northern Mendocino County, California, at the confluence of the Eel River and the Middle Fork of the Eel River. The area's boundaries are defined as follows—

(1) Beginning in the northwestern quarter of the Dos Rios map in section 32, T22N, R13W, at the intersection of the 2,000-foot contour line and Poonkinny Road, proceed southerly and then easterly along the meandering 2,000-foot contour line to its intersection with the eastern boundary of section 2, T21N, R13W (immediately south of State Route 162) (Dos Rios Quadrangle); then

(2) Proceed straight south along the section line, crossing the Middle Fork of the Eel River, to the southeast corner of section 11, T21N, R13W (Dos Rios Quadrangle); then

(3) Proceed 0.9 mile straight west along the southern boundary of section 11 to its intersection with the 2,000-foot elevation line, T21N, R13W (Dos Rios Quadrangle); then

(4) Proceed northerly then westerly along the meandering 2,000-foot contour line, crossing Big Water Canyon, Doghouse Creek, and Eastman Creek, to the contour line's intersection with the southern boundary of section 17, T21N, R13W (Dos Rios Quadrangle); then

(5) Proceed 2.1 miles straight west along the section line, crossing the Eel River, to the section line's intersection with the 2,000-foot contour line along the southern boundary of section 18, T21N, R13W (Dos Rios Quadrangle); then

(6) Proceed northerly along the meandering 2,000-foot contour line, crossing from and to the Dos Rios map (passing around the Sims 2208 benchmark near the southeast corner of section 36, T22N, R14W), and, returning to the Laytonville map, continuing westerly to the contour line's intersection with the southwest corner of section 36, T22N, R14W, at Windy Point (Laytonville Quadrangle); then

(7) Proceed 1.2 miles straight north along the section line to its intersection with the 2,000-foot elevation line, section 25, T22N, R14W (Laytonville Quadrangle); then

(8) Proceed northerly along the meandering 2,000-foot elevation, crossing over to and back from the Iron Peak map and returning to the Iron Peak map, to the contour line's intersection with the western boundary of section 14 (immediately south of an unnamed unimproved road), T22N, R14W (Iron Peak Quadrangle); then

(9) Proceed straight north along the section line to the southeast corner of section 3, T22N, R14W (Iron Peak Quadrangle); then

(10) Proceed straight west along the section line to the southwest corner of section 3, T22N, R14W (Iron Peak Quadrangle); then

(11) Proceed straight north along the section line to the northwest corner of section 3, T22N, R14W (Iron Peak Quadrangle); then

(12) Proceed straight east along the section line, crossing the Eel River, to the northeast corner of section 2, which coincides with the Round Valley Indian Reservation's southern boundary, T22N, R14W (Iron Peak Quadrangle); then

(13) Proceed straight south along the section line to the southeast corner of section 2, T22N, R14W (Iron Peak Quadrangle); then

(14) Proceed 0.3 mile straight east to the section line's intersection with the 2,000-foot elevation line along the northern boundary of section 12, T22N, R14W, west of Eberle Ridge, (Iron Peak Quadrangle); then

(15) Proceed generally southeast along the meandering 2,000-foot elevation, crossing onto the Covelo West map and continuing southerly along the 2,000-foot contour line from Stoner Creek in section 18, T22N, R13W, return to the Dos Rios map, continue southeasterly along the 2,000-foot contour line (crossing Goforth and Poonkinny Creeks), and return to the beginning point at the contour line's intersection with Poonkinny Road.

Signed: March 7, 2005.
John J. Manfreda,
Administrator.

[FR Doc. 05-6351 Filed 3-30-05; 8:45 am]

BILLING CODE 4810-31-P